DEPARTMENT OF COMMERCE

International Trade Administration

[A-570-912]

Certain New Pneumatic Off-the-Road Tires From the People's Republic of China: Final Results of Changed Circumstances Review

AGENCY: Import Administration, International Trade Administration, Department of Commerce.

SUMMARY: On June 8, 2010, the Department of Commerce (“the Department”) published a notice of preliminary results of a changed circumstances review of the antidumping duty order on certain new pneumatic off-the-road tires (“OTR tires”) from the People's Republic of China (“PRC”).¹ In the Preliminary Results, the Department preliminarily found that Mai Shandong Radial Tyre Co., Ltd. (“Mai Shandong”) is not the successor-in-interest to Shandong Jinyu Tyre Co., Ltd. (“Shandong Jinyu”) for the purposes of determining the antidumping duty cash deposit rate for Mai Shandong. For the final results, the Department continues to find that Mai Shandong is not the successor-in-interest to Shandong Jinyu.

¹ See Certain New Pneumatic Off-the-Road Tires from the People's Republic of China: Preliminary Results of Changed Circumstances Review, 75 FR 32376 (June 8, 2010) (“Preliminary Results”).

DATES: Effective Date: August 4, 2010.

FOR FURTHER INFORMATION CONTACT: Raquel Silva or Charles Riggle, AD/CVD Operations, Office 8, Import Administration, International Trade Administration, U.S. Department of Commerce, 1401 Constitution Avenue, NW., Washington, DC 20230; telephone: (202) 482-6475 or (202) 482-0650, respectively.

SUPPLEMENTARY INFORMATION:

Background

On September 4, 2008, the Department published in the Federal Register an antidumping duty order on OTR tires from the PRC.² As part of the Order, Shandong Jinyu received the amended separate-rate respondent rate of 12.91 percent.³ On September 14, 2009, Mai Shandong filed a submission requesting that the Department conduct a changed circumstances review of the Order to confirm that it is the successor-in-interest to Shandong Jinyu.⁴ As part of its September 14, 2009, submission, Mai Shandong requested that the Department conduct an expedited review.

² See Certain New Pneumatic Off-the-Road Tires From the People's Republic of China: Notice of Amended Final Affirmative Determination of Sales at Less Than Fair Value and Antidumping Duty Order, 73 FR 51624 (September 4, 2008) (“Order”).

³ See Id. at 51627.

⁴ See Letter from Mai Shandong to the Department regarding Certain New Pneumatic Off-The-Road Tires from the People's Republic of China, Request for Changed Circumstances Review (Case No. A-570-912) (September 14, 2009).

In response to the request, the Department initiated a changed circumstances review of Mai Shandong on November 10, 2009.⁵ However, the Department found conclusive evidence lacking and, therefore, determined an expedited preliminary result was not appropriate.⁶ Subsequent to initiation, the Department issued, and Mai Shandong responded to, an original and several supplemental questionnaires requesting additional information.

⁵ See Certain New Pneumatic Off-the-Road Tires from the People's Republic of China: Initiation of Changed Circumstances Review, 74 FR 57999 (November 10, 2009).

⁶ See Id. at 58001.

On June 8, 2010, the Department published preliminary results of the changed circumstances review, finding Mai Shandong not to be the successor-in-interest to Shandong Jinyu, and invited interested parties to comment.⁷ We received no comments or requests for a hearing from interested parties.

⁷ See Preliminary Results.

Scope of the Order

The products covered by the order are new pneumatic tires designed for off-the-road and off-highway use, subject to exceptions identified below. Certain OTR tires are generally designed, manufactured and offered for sale for use on off-road or off-highway surfaces, including but not limited to, agricultural fields, forests, construction sites, factory and warehouse interiors, airport tarmacs, ports and harbors, mines, quarries, gravel yards, and steel mills. The vehicles and equipment for which certain OTR tires are designed for use include, but are not limited to: (1) Agricultural and forestry vehicles and equipment, including agricultural tractors,⁸ combine harvesters,⁹ agricultural high clearance sprayers,¹⁰ industrial tractors,¹¹ log-skidders,¹² agricultural implements, highway-towed implements, agricultural logging, and agricultural, industrial, skid-steers/mini-loaders; ¹³ (2) construction vehicles and equipment, including earthmover articulated dump products, rigid frame haul trucks,¹⁴ front end loaders,¹⁵ dozers,¹⁶ lift trucks, straddle carriers,¹⁷ graders,¹⁸ mobile cranes,¹⁹ compactors; and (3) industrial vehicles and equipment, including smooth floor, industrial, mining, counterbalanced lift trucks, industrial and mining vehicles other than smooth floor, skid-steers/mini-loaders, and smooth floor off-the-road counterbalanced lift trucks.²⁰ The foregoing list of vehicles and equipment generally have in common that they are used for hauling, towing, lifting, and/or loading a wide variety of equipment and materials in agricultural, construction and industrial settings. Such vehicles and equipment, and the descriptions contained in the footnotes are illustrative of the types of vehicles and equipment that use certain OTR tires, but are not necessarily all-inclusive. While the physical characteristics of certain OTR tires will vary depending on the specific applications and conditions for which the tires are designed (e.g., tread pattern and depth), all of the tires within the scope have in common that they are designed for off-road and off-highway use. Except as discussed below, OTR tires included in the scope of the order range in size (rim diameter) generally but not exclusively from 8 inches to 54 inches. The tires may be either tube-type ²¹ or tubeless, radial or non-radial, and intended for sale either to original equipment manufacturers or the replacement market. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. While HTSUS subheadings are provided for convenience and customs purposes, our written description of the scope is dispositive.

⁸ Agricultural tractors are dual-axle vehicles that typically are designed to pull farming equipment in the field and that may have front tires of a different size than the rear tires.

⁹ Combine harvesters are used to harvest crops such as corn or wheat.

¹⁰ Agricultural sprayers are used to irrigate agricultural fields.

¹¹ Industrial tractors are dual-axle vehicles that typically are designed to pull industrial equipment and that may have front tires of a different size than the rear tires.

¹² A log-skidder has a grappling lift arm that is used to grasp, lift and move trees that have been cut down to a truck or trailer for transport to a mill or other destination.

¹³ Skid-steer loaders are four-wheel drive vehicles with the left-side drive wheels independent of the right-side drive wheels and lift arms that lie alongside the driver with the major pivot points behind the driver's shoulders. Skid-steer loaders are used in agricultural, construction and industrial settings.

¹⁴ Haul trucks, which may be either rigid frame or articulated (i.e., able to bend in the middle) are typically used in mines, quarries and construction sites to haul soil, aggregate, mined ore, or debris.

¹⁵ Front loaders have lift arms in front of the vehicle. They can scrape material from one location to another, carry material in their buckets, or load material into a truck or trailer.

¹⁶ A dozer is a large four-wheeled vehicle with a dozer blade that is used to push large quantities of soil, sand, rubble, etc., typically around construction sites. They can also be used to perform “rough grading” in road construction.

¹⁷ A straddle carrier is a rigid frame, engine-powered machine that is used to load and offload containers from container vessels and load them onto (or off of) tractor trailers.

¹⁸ A grader is a vehicle with a large blade used to create a flat surface. Graders are typically used to perform “finish grading.” Graders are commonly used in maintenance of unpaved roads and road construction to prepare the base course on to which asphalt or other paving material will be laid.

¹⁹ I.e., “on-site” mobile cranes designed for off-highway use.

²⁰ A counterbalanced lift truck is a rigid framed, engine-powered machine with lift arms that has additional weight incorporated into the back of the machine to offset or counterbalance the weight of loads that it lifts so as to prevent the vehicle from overturning. An example of a counterbalanced lift truck is a counterbalanced fork lift truck. Counterbalanced lift trucks may be designed for use on smooth floor surfaces, such as a factory or warehouse, or other surfaces, such as construction sites, mines, etc.

²¹ While tube-type tires are subject to the scope of this proceeding, tubes and flaps are not subject merchandise and therefore are not covered by the scope of this proceeding, regardless of the manner in which they are sold (e.g., sold with or separately from subject merchandise).

Specifically excluded from the scope are new pneumatic tires designed, manufactured and offered for sale primarily for on-highway or on-road use, including passenger cars, race cars, station wagons, sport utility vehicles, minivans, mobile homes, motorcycles, bicycles, on-road or on-highway trailers, light trucks, and trucks and buses. Such tires generally have in common that the symbol “DOT” must appear on the sidewall, certifying that the tire conforms to applicable motor vehicle safety standards. Such excluded tires may also have the following designations that are used by the Tire and Rim Association:

Prefix Letter Designations

• P—Identifies a tire intended primarily for service on passenger cars;

• LT—Identifies a tire intended primarily for service on light trucks; and,

• ST—Identifies a special tire for trailers in highway service.

Suffix Letter Designations

• TR—Identifies a tire for service on trucks, buses, and other vehicles with rims having specified rim diameter of nominal plus 0.156” or plus 0.250”;

• MH—Identifies tires for Mobile Homes;

• HC—Identifies a heavy duty tire designated for use on “HC” 15” tapered rims used on trucks, buses, and other vehicles. This suffix is intended to differentiate among tires for light trucks, and other vehicles or other services, which use a similar designation.

• Example: 8R17.5 LT, 8R17.5 HC

• LT—Identifies light truck tires for service on trucks, buses, trailers, and multipurpose passenger vehicles used in nominal highway service; and

• MC—Identifies tires and rims for motorcycles.

The following types of tires are also excluded from the scope: Pneumatic tires that are not new, including recycled or retreaded tires and used tires; non-pneumatic tires, including solid rubber tires; tires of a kind designed for use on aircraft, all-terrain vehicles, and vehicles for turf, lawn and garden, golf and trailer applications. Also excluded from the scope are radial and bias tires of a kind designed for use in mining and construction vehicles and equipment that have a rim diameter equal to or exceeding 39 inches. Such tires may be distinguished from other tires of similar size by the number of plies that the construction and mining tires contain (minimum of 16) and the weight of such tires (minimum 1500 pounds).

Final Results of the Review

In the Preliminary Results, the Department found that Mai International's acquisition of approximately 90 percent equity in Shandong Jinyu's OTR tires business resulted in a joint venture that is majority owned and operated by a new, foreign entity, with a new corporate structure, changed management, and significantly altered sales and marketing operations.²² As a result, the Department preliminarily determined that Mai Shandong is a new entity that operates in a significantly different manner from Shandong Jinyu. The Department did not receive any comments on the preliminary results of this review. For the same reasons stated in the preliminary results, the Department continues to find that Mai Shandong is not the successor-in-interest to Shandong Jinyu for the purposes of the antidumping duty proceeding.²³ Accordingly, Mai Shandong remains subject to the PRC-wide entity rate.

²² See Preliminary Results, 75 FR at 32377-78.

²³ See Id.

Notification

The Department will instruct U.S. Customs and Border Protection that the determination from this changed circumstances review will apply to all shipments of the subject merchandise produced and exported by Mai Shandong entered, or withdrawn from warehouse, for consumption on or after the date of publication of the final results of this changed circumstances review. This cash deposit rate shall remain in effect until publication of the final results of the next administrative review in which Mai Shandong participates.

This notice also serves as a final reminder to parties subject to administrative protective orders (“APOs”) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i) of the Tariff Act of 1930, as amended, and 19 CFR 351.216.

Dated: July 28, 2010.
Paul Piquado,
Acting Deputy Assistant Secretary for Import Administration.

[FR Doc. 2010-19196 Filed 8-3-10; 8:45 am]

BILLING CODE 3510-DS-P